DEPARTMENT OF HOMELAND SECURITY

[Docket No. DHS-2006-0079]

The Critical Infrastructure Partnership Advisory Council (CIPAC)

AGENCY: Directorate for National Protection and Programs, DHS.

ACTION: Update of CIPAC council membership.

SUMMARY: The Department of Homeland Security (DHS) announced the establishment of the Critical Infrastructure Partnership Advisory Council (CIPAC) by notice published in the Federal Register on March 24, 2006. That notice identified the purpose of CIPAC as well as its membership. This notice provides (i) the quarterly CIPAC membership update, (ii) instructions on how the public can obtain the CIPAC membership roster and other information on the Council, and (iii) information on the State, Local, Tribal, and Territorial Government Coordinating Council (SLTTGCC) and their membership within CIPAC.

FOR FURTHER INFORMATION CONTACT: Brett Lambo, Partnership and Outreach Division, Office of Infrastructure Protection, National Protection and Programs Directorate, United States Department of Homeland Security, Washington, DC 20528, telephone (703) 235-3643 or via e-mail at brett.lambo@dhs.gov.

Responsible DHS Official: Nancy J. Wong, Director Partnership Programs and Information Sharing Office, Partnership and Outreach Division, Office of Infrastructure Protection, National Protection and Programs Directorate, United States Department of Homeland Security, Washington, DC 20528, telephone (703) 235-3667.

SUPPLEMENTARY INFORMATION: CIPAC facilitates interaction between government officials and representatives of the community of owners and operators for each of the critical infrastructure/key resource (CI/KR) sectors identified in the National Infrastructure Protection Plan. The scope of CIPAC's activities includes planning; coordinating among government and CI/KR owner/operator security partners; implementing security program initiatives; conducting operational activities related to critical infrastructure protection security measures, incident response, recovery, infrastructure resilience, reconstituting CI/KR assets and systems for both man-made as well as naturally occurring events; and sharing threat, vulnerability, risk mitigation, and infrastructure continuity information and best practices.

CIPAC Sub-Councils: Each critical infrastructure sector maintains a Sector Coordinating Council (SCC). SCC infrastructure owner and/or operator membership includes critical infrastructure owners and/or operators as well as owner and/or operator's representative trade associations deemed by each SCC as necessary participants to accommodate the above scope of activities. Each critical infrastructure sector also maintains a Government Coordinating Council (GCC) whose membership is formed and recognized by the Department of Homeland Security in conjunction with the sector's Sector Specific Agency (SSA). A sector's GCC membership includes the SSA and all relevant Federal, State, local, Tribal, and/or Territorial government agencies (or their representative bodies) whose mission interests also involve the scope of the CIPAC activities identified above for that particular sector.

The SLTTGCC: As defined above; relevant Federal, State, local, Tribal, and Territorial government entities within each Sector have always been included as CIPAC members. DHS has recently established the State, Local, Tribal, and Territorial Government Coordinating Council (SLTTGCC) in order to enhance coordination between CI/KR experts from the private sector and all levels of government. The SLTTGCC functions as a forum for State, local, tribal, and territorial (SLTT) government leaders to engage the Federal government and CI/KR owners and/or operators within the National CI/KR sector partnership framework. SLTTGCC members assume a central role in promoting National communication and coordination on critical infrastructure protection policies, strategies, and programs. The SLTTGCC enhances National efforts to secure, protect, sustain, and support the resilience of the Nation's CI/KR. DHS policy requires and the SLTTGCC strives to achieve National geographic diversity as well as broad cross-disciplinary representation among the SLTTGCC membership. The SLTTGCC includes SLTT homeland security directors or equivalents who have programmatic policy, planning and operational responsibilities related to CI/KR protection. SLTTGCC members are recognized leaders who are accountable for the development, improvement, and maintenance of SLTT critical infrastructure protection policies or programs in their day-to-day governmental mission activities. DHS encourages any such officials who are committed to serve as national representatives to seek SLTTGCC membership by submitting a resume or CV accompanied by an email or letter detailing their interest to SLTTGCC@dhs.gov. Additional information on the SLTTGCC is available at http://www.dhs.gov/slttgcc.

CIPAC Membership: CIPAC Membership includes (i) CI/KR owner and/or operator entities; (ii) trade associations representing the interests of CI/KR owners and/or operators that own and invest in infrastructure assets or in the systems and processes to secure them, or representing CI/KR owners and/or operators whom are held responsible by the public for CI/KR operations and the response and recovery when their CI/KR assets and systems are disrupted; and (iii) each sector's GCC; and, based upon DHS' recent establishment of this council, (iv) State, local, Tribal, and Territorial governmental officials comprising the DHS SLTTGCC.

CIPAC Membership Roster and Council Information: The current roster of CIPAC membership is published on the CIPAC Web site (http://www.dhs.gov/cipac) and is updated as the CIPAC membership changes. Members of the public may visit the CIPAC Web site at any time to obtain current CIPAC membership as well as the current and historic list of CIPAC meetings and agendas.

Dated: December 20, 2007.
Nancy Wong,
Designated Federal Officer for the CIPAC.

[FR Doc. E7-24632 Filed 12-18-07; 8:45 am]

BILLING CODE 4410-10-P